DEPARTMENT OF JUSTICE

Bureau of Alcohol, Tobacco, Firearms and Explosives

[OMB Number 1140-NEW]

Agency Information Collection Activities; Proposed eCollection eComments Requested; Informant Agreement—ATF Form 3252.2

AGENCY: Bureau of Alcohol, Tobacco, Firearms and Explosives, Department of Justice.

ACTION: 30-Day notice.

SUMMARY: The Department of Justice (DOJ), Bureau of Alcohol, Tobacco, Firearms and Explosives (ATF), will submit the following information collection request to the Office of Management and Budget (OMB) for review and approval in accordance with the Paperwork Reduction Act of 1995.

DATES: The proposed information collection was previously published in the Federal Register, on October 24, 2019, allowing for a 60-day comment period. Comments are encouraged and will be accepted for an additional 30 days until January 27, 2020.

FOR FURTHER INFORMATION CONTACT: If you have additional comments regarding the estimated public burden or associated response time, suggestions, or need a copy of the proposed information collection instrument with instructions, or additional information, please contact: Renee Reid, FO/ESB—Mailstop (7.E-401), either by mail at 99 New York Ave. NE, Washington DC, 20226, by email at Renee.Reid@atf.gov, or by telephone at 202-648-9255. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New Collection.

(2) The Title of the Form/Collection: Informant Agreement.

(3) The agency form number, if any, and the applicable component of the Department sponsoring the collection:

Form number: ATF Form 3252.2.

Component: Bureau of Alcohol, Tobacco, Firearms and Explosives, U.S. Department of Justice.

(4) Affected public who will be asked or required to respond, as well as a brief abstract:

Primary: Individuals or households.

Other: None.

Abstract: Any individual registering as a confidential informant (CI) for ATF, must provide their personally identifiable information (PII) on the Informant Agreement—(ATF Form 3252.2). ATF will utilize the information to verify the identity of the CI, who can provide useful and credible information to ATF regarding felonious criminal activities.

(5) An estimate of the total number of respondents and the amount of time estimated for an average respondent to respond: An estimated 2,000 respondents will utilize the form annually, and it will take each respondent approximately 6 minutes to complete the form.

(6) An estimate of the total public burden (in hours) associated with the collection: The estimated annual public burden associated with this collection is 200 hours, which is equal to 2,000 (# of respondents) * .10 (6 minutes).

If additional information is required contact: Melody Braswell, Department Clearance Officer, United States Department of Justice, Justice Management Division, Policy and Planning Staff, Two Constitution Square, 145 N Street NE, 3E.405A, Washington, DC 20530.

Dated: December 20, 2019.
Melody Braswell,
Department Clearance Officer for PRA, U.S. Department of Justice.

[FR Doc. 2019-27924 Filed 12-26-19; 8:45 am]

BILLING CODE 4410-14-P